DEPARTMENT OF STATE

[Public Notice: 11362]

Designation of Iranian Individuals

ACTION: Notice of designation.

SUMMARY: The State Department, in consultation with the Secretary of the Treasury and the Attorney General, has determined that Majid Agha'i (Majid Aghaei) and Amjad Sazgar engaged, or attempted to engage, in activities or transactions that have materially contributed to, or pose a risk of materially contributing to, the proliferation of weapons of mass destruction or their means of delivery (including missiles capable of delivering such weapons), including any efforts to manufacture, acquire, possess, develop, transport, transfer or use such items, by any person or foreign country of proliferation concern. The State Department, in consultation with the Secretary of the Treasury and the Attorney General, has additionally determined that Hamid Reza Ghadirian and Ahmad Asghari Shiva'i engaged, or attempted to engage, in activities or transactions that have materially contributed to, or pose a risk of materially contributing to, the proliferation of weapons of mass destruction by Iran, through activities that are contrary to Iran's JCPOA commitment that Iran will not engage in activities that could contribute to the development of a nuclear explosive device.

DATES: The Under Secretary of State for Arms Control and International Security designated Majid Agha'i and Amjad Sazgar pursuant to Executive Order 13382 on May 29, 2020. The Secretary of State designated Hamid Reza Ghadirian and Ahmad Asghari Shiva'i pursuant to Executive Order 13382 on September 21, 2020.

ADDRESSES: Office of Counterproliferation Initiatives, Bureau of International Security and Nonproliferation, Department of State, Washington, DC 20520, tel.: 202-736-7065, or CPI-Sanctions@state.gov.

SUPPLEMENTARY INFORMATION: On June 28, 2005, the President, invoking the authority, inter alia, of the International Emergency Economic Powers Act (50 U.S.C. 1701-1706) (“IEEPA”), issued Executive Order 13382 (70 CFR 38567, July 1, 2005) (the “Order”), effective at 12:01 a.m. eastern daylight time on June 30, 2005. In the Order, the President took additional steps with respect to the national emergency described and declared in Executive Order 12938 of November 14, 1994, regarding the proliferation of weapons of mass destruction and the means of delivering them.

Section 1 of the Order blocks, with certain exceptions, all property and interests in property that are in the United States, or that hereafter come within the United States or that are or hereafter come within the possession or control of United States persons, of: (1) The persons listed in the Annex to the Order; (2) any foreign person determined by the Secretary of State, in consultation with the Secretary of the Treasury, the Attorney General, and other relevant agencies, to have engaged, or attempted to engage, in activities or transactions that have materially contributed to, or pose a risk of materially contributing to, the proliferation of weapons of mass destruction or their means of delivery, including any efforts to manufacture, acquire, possess, develop, transport, transfer or use such items, by any person or foreign country of proliferation concern; (3) any person determined by the Secretary of the Treasury, in consultation with the Secretary of State, the Attorney General, and other relevant agencies, to have provided, or attempted to provide, financial, material, technological or other support for, or goods or services in support of, any activity or transaction described in clause (2) above or any person whose property and interests in property are blocked pursuant to the Order; and (4) any person determined by the Secretary of the Treasury, in consultation with the Secretary of State, the Attorney General, and other relevant agencies, to be owned or controlled by, or acting or purporting to act for or on behalf of, directly or indirectly, any person whose property and interests in property are blocked pursuant to the Order.

As a result of this action, all property and interests in property of Majid Agha'I, Amjad Sazgar, Hamid Reza Ghadirian, and Ahmad Asghari Shiva'i that are in the United States, or that hereafter come within the United States or that are or hereafter come within the possession or control of United States persons are blocked and may not be transferred, paid, exported, withdrawn, or otherwise dealt in.

Information on the designees:

Individual 1

Name: Majid Agha'i

Name: Majid Aghaei

Date of birth: April 13, 1984

National Identification Number: 1199310281 (Iran)

Place of Birth: Ghom, Iran

Gender: Male

Nationality: Iran

Location: Iran

Individual 2

Name: Amjad Sazgar

Date of birth: April 16, 1979

Place of Birth: Babol, Iran

Gender: Male

Nationality: Iran

Location: Iran

Individual 3

Name: Hamid Reza Ghadirian

Date of birth: September 23, 1978

Place of birth: Aran o Bigdol, Iran

Gender: Male

Nationality: Iran

National ID number: 6199152344

Location: Iran

Individual 4

Name: Ahmad Asghari Shiva'i

AKA: Ahmed Asghari Shivaei

Date of birth: March 3, 1973

Place of birth: Tehran, Iran

Gender: Male

Nationality: Iran

National ID number: 55690718

Location: Iran

Zachary A. Parker,
Director, Office of Directives Management.

[FR Doc. 2021-05057 Filed 3-10-21; 8:45 am]

BILLING CODE 4710-27-P